DEPARTMENT OF EDUCATION

Applications for New Awards; National Institute on Disability and Rehabilitation Research—Advanced Rehabilitation Research Training Program

Correction

In notice document 2014-03209 appearing on pages 8693-8698 in the issue of February 13, 2014, make the following corrections:

(1) On page 8694, in the table, in the third column, in the second row, “February 13, 2014” should read “April 14, 2014”.

(2) On the same page, in the same table, in the same column, in the third row, “February 13, 2014” should read “April 14, 2014”.

[FR Doc. C1-2014-03209 Filed 3-3-14; 8:45 am]

BILLING CODE 1505-01-D